DEPARTMENT OF TRANSPORTATION

National Highway Traffic Safety Administration

49 CFR Part 571

[Docket No. NHTSA-2015-0056]

RIN 2127-AK97

Federal Motor Vehicle Safety Standards; Electronic Stability Control Systems for Heavy Vehicles

Correction

In rule document 2015-14127, appearing on pages 36050-36110 in the issue of Tuesday, June 23, 2015, make the following correction:

§ 571.101 Standard No. 101; Controls and displays. [Corrected]

On pages 36102-36103, in the table titled “Table 1: Controls, Telltales, and Indicators With Illumination or Color Requirements”, the images are corrected to appear as follows:

BILLING CODE 1505-01-P

[FR Doc. C1-2015-14127 Filed 9-10-15; 8:45 am]

BILLING CODE 1505-01-D